DEPARTMENT OF TRANSPORTATION

Surface Transportation Board

[STB Finance Docket No. 34436]

Burlington Northern and Santa Fe Railway Co.—Trackage Rights Exemption—Union Pacific Railroad Co.

Union Pacific Railroad Company (UP) has agreed to grant certain trackage rights to The Burlington Northern and Santa Fe Railway (BNSF) between Gibbs, ID, at Coeur d'Alene Industrial Lead milepost 7.40 and Coeur d'Alene, at Coeur d'Alene Industrial Lead milepost 8.79, a distance of approximately 1.4 miles.

The transaction was scheduled to be consummated on November 19, 2003 (7 days after the notice was filed).

The purpose of the trackage rights is to allow BNSF to deliver and receive rail cars from the Stimson Lumber facility at Coeur d'Alene, ID, as part of BNSF's agreement to provide haulage services for UP between Spokane, WA and Coeur d'Alene.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34436, must be filed with the Surface Transportation Board, 1925 K Street, NW., Washington, DC 20423-0001. In addition, a copy of each pleading must be served on Sarah W. Bailiff, The Burlington Northern and Santa Fe Railway Company, 2500 Lou Menk Drive, PO Box 961039, Fort Worth, TX 76161-0039.

Board decisions and notices are available on our Web site at http://www.stb.dot.gov.

Decided: November 24, 2003.
By the Board, David M. Konschnik, Director, Office of Proceedings.
Vernon A. Williams,
Secretary.

[FR Doc. 03-29809 Filed 12-1-03; 8:45 am]

BILLING CODE 4915-00-P